Proclamation 9816 of October 31, 2018

National Entrepreneurship Month, 2018

By the President of the United States of America

A Proclamation

Since the founding of our Nation, generations of Americans have drawn upon every last measure of grit and determination to push the limits of human knowledge, invention, and capability. Our Nation thrives today because bold entrepreneurs and innovators had vision and drive, stopping at nothing to realize their dreams. This intrepid spirit, which burns in the heart of so many Americans, kept Edison working into the candlelit hours, lifted Earhart to new heights, and put a computer in every home. And under my Administration's policies, optimism among our Nation's small businesses and entrepreneurs recently reached the highest level ever recorded. During National Entrepreneurship Month, we celebrate the Americans who forge new frontiers of possibility and prosperity, and we reaffirm our commitment to creating an environment in which they can continue to drive our country's economic success.

My Administration is committed to policies that foster entrepreneurship and create jobs. For too long, an outdated and convoluted tax code discouraged investment and limited opportunity for millions of hardworking Americans. That is why, in December of 2017, I delivered on my promise to unleash the potential of America's economy by signing into law the Tax Cuts and Jobs Act. These unprecedented tax cuts and reforms eased the tax burden on entrepreneurs and expanded their access to capital, ushering in a new era of economic growth.

My Administration is also implementing historic regulatory reform, removing unnecessary and burdensome regulations, which have too often prevented our country's risk-takers from charting new paths of discovery. While working at every turn to protect consumers and the environment from harm, our deregulatory efforts have saved American families and business owners $33 billion. For the first time in modern history, Americans have experienced an overall decrease in regulatory burdens. We will not let up. Americans deserve a regulatory environment that facilitates innovation, rewards creativity, and allows the skills and dexterity of our entrepreneurs to shine.

Americans of every race, creed, and socioeconomic background are benefiting from my Administration's whole-of-government approach to economic growth. For example, the Small Business Administration (SBA), through its Women's Business Center Program, is providing access to training and counseling specifically for women in business. The SBA is also embarking on an ambitious web-based effort to build awareness about resources available for Hispanic job creators. Additionally, the Tax Cuts and Jobs Act created new Opportunity Zones, which will attract billions of dollars in private-sector investments to revitalize distressed communities in America.

These efforts are yielding extraordinary dividends. The unemployment rate in September hit its lowest level in nearly half a century. The unemployment rate for Hispanic Americans is at the lowest level in recorded history. The unemployment rates for African Americans and Asian Americans have also hit all-time lows. The same is true of the unemployment rates for African-American women and African-American youth. And businesses owned by African-American and Hispanic-American women are growing at a faster rate than any other category of female owned businesses.

This month, we celebrate every American entrepreneur who continues in the proud tradition of taking risks and delivering remarkable new products and services. We continue to be inspired by those who bring their ideas to fruition, whether through ambitious business development, thrilling entertainment, or groundbreaking research. And we renew our commitment to removing obstacles to economic freedom so that our Nation's entrepreneurs are able to embrace their ingenuity and create the next generation of American prosperity.

NOW, THEREFORE, I, DONALD J. TRUMP, President of the United States of America, by virtue of the authority vested in me by the Constitution and the laws of the United States, do hereby proclaim November 2018 as National Entrepreneurship Month. I call upon all Americans to commemorate this month with appropriate programs and activities and to celebrate November 20, 2018, as National Entrepreneurs' Day.

IN WITNESS WHEREOF, I have hereunto set my hand this thirty-first day of October, in the year of our Lord two thousand eighteen, and of the Independence of the United States of America the two hundred and forty-third.

[FR Doc. 2018-24360

Filed 11-5-18; 8:45 am]

Billing code 3295-F9-P